DEPARTMENT OF HOUSING AND URBAN DEVELOPMENT

[Docket No. FR-4561-N-41]

Notice of Submission of Proposed Information Collection to OMB; Emergency Comment Request, Section 203(k) Rehabilitation Mortgage Insurance

AGENCY: Office of Insured Single Family Housing Asset Management Division, HUD.

ACTION: Notice of proposed information collection for public comment.

SUMMARY: The proposed information collection requirement described below has been submitted to the Office of Management and Budget (OMB) for emergency review and approval, as required by the Paperwork Reduction Act. The Department is soliciting public comments on the subject proposal.

DATES: Comments Due Date: July 12, 2000.

ADDRESSES: Interested persons are invited to submit comments regarding this proposal. Comments must be received within seven (7) days from the date of this Notice. Comments should refer to the proposal by name/or OMB approval number (2502-0527) and should be sent to: Joseph F. Lackey, Jr., HUD Desk Officer, Office of Management and Budget, New Executive Office Building, Washington, DC 20503.

FOR FURTHER INFORMATION CONTACT: Wayne Eddins, Reports Management Officer, Q, Department of Housing and Urban Development, 451 Seventh Street, SW, Washington, DC 20410; e-mail Wayne_Eddins@HUD.gov; telephone (202) 708-2374. This is not a toll-free number. Copies of available documents submitted to OMB may be obtained from Mr. Eddins.

SUPPLEMENTARY INFORMATION: This Notice informs the public that the Department of Housing and Urban Development (HUD) has submitted to OMB, for emergency processing, an information collection package with respect to this expanded collection requirement implements recommendations to mitigate program abuses that were cited in an Audit Report of HUD's Office of Inspector General. The expanded information collection focuses on the loan origination process and requires (1) certifications and disclosures concerning identify-of-interest borrowers and program participants, and (2) proficiency testing of home inspectors/consultants.

The purposes of a collection requirement is to help mitigate program abuses cited by the General Accounting Office (GAO) and HUD's Office of Inspector General. The basis for our request for emergency processing is that the 203 (k) Rehabilitation Mortgage Insurance program continues to experience abuses, as cited by GAO and the Inspector General. Without an approved OMB collection of information, we cannot implement the necessary controls to stem program fraud and misuse on a timely basis.

This Notice is soliciting comments from members of the public and affected agencies concerning the proposed collection of information to: (1) Evaluate whether the proposed collection of information is necessary for the proper performance of the functions of the agency, including whether the information will have practical utility; (92) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: 203(k) Rehabilitation Mortgage Insurance.

OMB Control Number: 2502-0527.

Agency Form Numbers: HUD-92700.

Members of Affected Public: Individuals or Households, Business or Other-For-Profit, Federal Government.

Estimation of the total numbers of hours needed to prepare the information collection including number of respondents, frequency of responses, and hours of response: An estimation of the total number of hours needed to prepare the information collection is 321,250, number of respondents is 20,500, frequency response is annually, and the hours of response is 3.

Authority: The Paperwork Reduction Act of 1995, 44 U.S.C. Chapter 35, as amended.

Dated: June 28, 2000
Wayne Eddins,
Departmental Reports Management Officer, Office of the Chief Information Officer.

[FR Doc. 00-16959 Filed 7-3-00; 8:45 am]

BILLING CODE 4210-01-M